NATIONAL TRANSPORTATION SAFETY BOARD

[Docket No.: NTSB-2021-0010, OMB Control No. 3147-0028]

Proposed Information Collection; Comment Request

AGENCY: National Transportation Safety Board (NTSB).

ACTION: 60-Day notice of information collection; request for comments.

SUMMARY: Under the Paperwork Reduction Act (PRA) of 1995, the National Transportation Safety Board (NTSB) offers the public and Federal agencies the opportunity to comment regarding the NTSB's intent to submit an Information Collection Request (ICR) for an extension of a currently-approved information collection (IC) for Office of Management and Budget (OMB) Control No. 3147-0028. The OMB number, which is currently assigned to the NTSB's Request for a Medical Exception to the COVID-19 Vaccination Requirement form, was obtained through emergency clearance in November 2021 and will expire on May 31, 2022. This 60-Day Notice informs the public and Federal agencies that they may submit comments directly to the NTSB regarding this IC.

DATES: Submit written comments regarding this proposed collection of information by February 15, 2022.

ADDRESSES: You may send comments, identified by Docket Number (No.) NTSB-2021-0007, by any of the following methods:

• Federal e-Rulemaking Portal: https://www.regulations.gov.

• Email: rulemaking@ntsb.gov.

• Fax: 202-314-6090.

• Mail/Hand Delivery/Courier: NTSB, Office of General Counsel, 490 L'Enfant Plaza East SW, Washington, DC 20594.

Instructions: All submissions in response to this Notice must include Docket No. NTSB-2021-0007. All comments received will be posted without change to https://www.regulations.gov, including any personal information provided.

Docket: For access to the docket, including comments received, go to https://www.regulations.gov and search under Docket No. NTSB-2021-0007. For a copy of the proposed medical exception form, email rulemaking@ntsb.gov and include “NTSB-2021-0007” in the subject line.

FOR FURTHER INFORMATION CONTACT: Kathleen Silbaugh, General Counsel, (202) 314-6080, rulemaking@ntsb.gov.

SUPPLEMENTARY INFORMATION: To comply with the September 9, 2021, Executive Order (E.O.) 14043 (Requiring Coronavirus Disease 2019 Vaccination for Federal Employees) and October 2021 guidance from the Safer Federal Workforce Task Force, the NTSB created and received emergency clearance in November 2021 for the following form: Request for a Medical Exception to the COVID-19 Vaccination Requirement. This form is designed for agency employees requesting a medical exception to the vaccine requirements. The agency uses this form to determine whether the employee provided sufficient information to justify the request. Because the OMB number assigned to this form was obtained through emergency clearance, the OMB number is only valid for six months and will expire on May 31, 2022. In anticipation of future requests from its employees, the NTSB is specifically seeking an extension of this currently-approved collection.

Prior to submitting the ICR to the Office of Information and Regulatory Affairs, 5 CFR 1320.8(d)(1) requires agencies to provide a 60-day Notice in the Federal Register and otherwise consult with members of the public and affected agencies. Thus, through this Notice, the NTSB currently is soliciting public comments that include: (1) Whether the proposed collection is necessary for the NTSB to perform its mission; (2) the accuracy of the estimated burden; (3) ways for the NTSB to enhance the quality, usefulness, and clarity of the IC; and (4) ways to minimize burden without reducing the quality of the IC.

This IC is necessary because when an agency employee requests a medical exception to the COVID-19 vaccine requirements, the NTSB will use the information provided on this form to determine whether the employee provided sufficient information to justify the request.

Title of Collection: Request for a Medical Exception to the COVID-19 Vaccination Requirement.

OMB Control Number: 3147-0028.

Form Number: Not applicable.

Type of Review: Extension of a currently-approved collection.

Affected Public: Private sector.

Total Estimated Annual Burden Hours: 20.

Estimated Average Burden Hours per Respondent: 1.

Frequency of Response: On occasion.

Total Estimated No. of Annual Responses: 20.

Jennifer Homendy,
Chair.

[FR Doc. 2021-27299 Filed 12-16-21; 8:45 am]

BILLING CODE 7533-01-P